DEPARTMENT OF ENERGY

Federal Energy Regulatory Commission

[Docket No. EC03-94-000, et al.] ITC Holdings Corp., et al.; Electric Rate and Corporate Filings

June 2, 2003.

The following filings have been made with the Commission. The filings are listed in ascending order within each docket classification.

1. ITC Holdings Corp., International Transmission Holdings Limited Partnership International Transmission Company

[Docket No. EC03-94-000]

Take notice that on May 27, 2003, ITC Holdings Corp., International Transmission Holdings Limited Partnership and International Transmission Company submitted an application pursuant to section 203 of the Federal Power Act seeking all authorizations and approvals necessary for the indirect disposition of jurisdictional facilities that may result from a change in upstream ownership interests, as more fully described in the application.

Comment Date: June 17, 2003.

2. United States Department of Energy—Western Area Power Administration

[Docket No. EF03-5031-000]

Take notice that on May 16, 2003, the Secretary of the Department of Energy by Rate Order No. WAPA-102, did confirm and approve on an interim basis, to be effective on October 1, 2003, the Western Area Power Administration (Western) Rate Schedules P-SED-F6 and P-SED-FPG for firm power service and firm peaking power through September 30, 2003.

The rates in Rate Schedules P-SED-F6 and P-SED-FPG will be in effect pending the Federal Energy Regulatory Commission's (Commission) approval of these rates on a final basis, ending September 30, 2003.

Comment Date: June 23, 2003.

3. United States Department of Energy—Western Area Power Administration

[Docket No. EF03-5181-000]

Take notice that on May 16, 2003, the Secretary of the Department of Energy by Rate Order No. WAPA-103, did confirm and approve on an interim basis, to be effective on October 1, 2003, the Western Area Power Administration's (Western) Rate Schedule L-F4 for firm electric service through September 30, 2003.

The rate in Rate Schedule L-F4 will be in effect pending the Federal Energy Regulatory Commission's (Commission) approval of this rate on a final basis, ending September 30, 2003.

Comment Date: June 23, 2003.

4. Arizona Public Service Company, El Paso Electric Company, Public Service Company of New Mexico, Southern California Edison Company

[Docket No. ER03-889-000]

Take notice that on May 29, 2003, Arizona Public Service Company, El Paso Electric Company, Public Service Company of New Mexico, and Southern California Edison Company tendered for filing an Interconnection and Operating Agreement necessary to interconnect the Rudd Transmission Line to the ANPP High Voltage Switchyard between the Rudd Line Participants and the ANPP Switchyard Participants.

Comment Date: June 19, 2003.

5. Innovative Technical Services, L.L.C.

[Docket No. ER03-890-000]

Take notice that on May 29, 2003, Innovative Technical Services, L.L.C. (InTech-LLC) tendered for filing with the Federal Energy Regulatory Commission (Commission) a letter requesting the Commission to amend the Western Systems Power Pool (WSPP) Agreement to include InTech-LLC as a participant. InTech-LLC respectfully requests that the Commission allow the amendment to the WSPP Agreement to become effective on May 29, 2003.

InTech-LLC states that a copy of this filing has been served upon the WSPP Executive Committee Chair, WSPP Operating Committee Chair, WSPP General Counsel, and Arizona Public Service Company.

Comment Date: June 19, 2003.

6. Gulf States Energy Investments L.P.

[Docket No. ER03-891-000]

Take notice that on May 29, 2003, Gulf States Energy Investments L.P. (Gulf States Energy Investments L.P.) petitioned the Commission for acceptance of its Rate Schedule FERC No. 1; the granting of certain blanket approvals, including the authority to sell electricity at market-based rates; and the waiver of certain Commission regulations.

Gulf States Energy Investments L.P. states that it intends to engage in wholesale electric power and energy purchases and sales as a marketer. Gulf States Energy Investments L.P. states that it is not in the business of generating or transmitting electric power. Gulf States Energy Investments L.P. asserts that it is a Texas Limited Partnership with its principal place of business and office in Dallas, Texas. Gulf States Energy Investments L.P. further states that it is involved in consulting of electricity and marketing of wholesale power. Gulf States Energy Investments L.P. explains that it is not associated with any utilities, investor owned or otherwise and is privately owned by Gulf States Energy, Inc., which is the General Partner, and several individuals from Fort Worth Texas, which act as the Limited Partners.

Comment Date: June 19, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-14495 Filed 6-9-03; 8:45 am]

BILLING CODE 6717-01-P